NUCLEAR REGULATORY COMMISSION

[NRC-2010-0039]

Notice of Public Meeting on the International Atomic Energy Agency Basic Safety Standards Version 3.0, Draft Safety Requirements DS379

AGENCY: Nuclear Regulatory Commission.

ACTION: Notice of Public Meeting on the International Atomic Energy Agency Basic Safety Standards Version 3.0, Draft Safety Requirements, DS379.

SUMMARY: The Interagency Steering Committee on Radiation Standards (ISCORS) is hosting an open forum with the public and other stakeholders on a revision to the International Basic Safety Standards for Protection Against Ionizing Radiation and the Safety of Radiation Sources (BSS). The forum is expected to yield information useful to inform the development of U.S. Government comments on this International Atomic Energy Agency (IAEA) draft General Safety Requirement. The forum will be held on February 26, 2010 in Rockville, MD. The proposed changes are contained in a draft document (DS379) submitted for Member State review by the IAEA.

DATES: The public meeting will be held in Rockville, Maryland on February 26, 2010, from 9:30 a.m. to 4:30 p.m. at: The Nuclear Regulatory Commission, Two White Flint Auditorium, 11555 Rockville Pike, Rockville, MD 20852, (301) 415-7000. Those members of the public unable to travel to the meeting location but still wishing to attend the public meeting may attend by phone. The bridge line to call is (877) 917-4910 and the pass code is 6463211.

The final agenda for the public meeting will be noticed no fewer than ten (10) days prior to the meeting on NRC's electronic public meeting schedule at http://www.nrc.gov/public-involve/public-meetings/index.cfm. Attendees should allow sufficient time for building access and security requirements.

Questions about participation in the public meeting should be directed to the facilitator listed in the ADDRESSES Section. Members of the public planning to attend the public meeting, whether in person or by phone are invited to RSVP at least ten (10) days prior to the meeting and should be directed to the points of contact listed in the FOR FURTHER INFORMATION CONTACT Section. Please specify in your RSVP whether you will be attending the meeting in person or by phone.

ADDRESSES: Questions regarding the participation in the public meeting should be submitted to the facilitator, Francis Cameron, by mail to Mail Stop O16-E15, U.S. Nuclear Regulatory Commission, Washington, DC 20555-0001, by telephone at (301) 415-1006, or by e-mail at francis.cameron@nrc.gov.

FOR FURTHER INFORMATION CONTACT: Ms. Monica Orendi, telephone (301) 415-3938, e-mail, Monica.Orendi@nrc.gov, or Dr. Donald Cool, telephone (301) 415-6347, e-mail, Donald.Cool@nrc.gov of the Office of Federal and State Materials and Environmental Management Programs, U.S. Nuclear Regulatory Commission, Washington, DC 20555-0001.

SUPPLEMENTARY INFORMATION:

Background

The IAEA periodically revised its Basic Safety Standards to reflect new information and accumulated experience. The current version was published in 1996 (http://www-pub.iaea.org/MTCD/publications/PDF/ss-115-web/Pub996_web-1a.pdf). The revision now underway is based on the recommendations of the International Commission on Radiological Protection (ICRP) contained in ICRP Publication 103, published in late 2007.

On January 28, 2010, the IAEA posted a draft revision of the BSS for comment by each of the member states of the IAEA. The draft (DS379) is available for viewing and downloading on the Internet at: http://www-ns.iaea.org/standards/documents/draft-ms-posted.asp. Several other International Organizations, including the World Health Organization and the International Labor Organization, are also providing the draft to their Member States for comment. The United States is a Member State of each of these International Organizations, and the U.S. Government will be developing coordinated comments on the draft revision.

The BSS provides requirements for the wide range of radiation protection situations which may exist. The draft report organizes these requirements into three principle exposure situations, namely: Planned exposure situations, in which an activity that may cause radiation exposure can be planned in advance, and appropriate controls put into place; emergency exposure situations, that arises as a result of an accident, a malicious act, or any other unexpected event, and requires prompt action in order to avoid or reduce adverse consequences; and existing exposure situations, in which the circumstances causing exposure already exist when a decision on the need for control has to be taken (such as radon in homes). The requirements in the existing BSS, and those contained in the draft cover areas which may be under the jurisdiction of the NRC, or may be part of programs under other Federal Agencies, including the Environmental Protection Agency, the Department of Health and Human Services, the Department of Labor, and the Department of Energy, or may be under the jurisdiction of various State Agencies.

Many Member States of the IAEA will utilize the BSS as one basis for the regulations for radiation safety in their countries. Adherence to the provisions of the BSS is mandated for IAEA's own conduct, and any uses of radiation or radioactive material where the IAEA is providing technical assistance and support to the Member State. Users of radiation and radioactive materials from the United States who may do business in these countries may therefore be particularly interested in this draft version. The United States does not directly adopt IAEA standards, but may consider such standards as a useful point of reference in the development of proposals under the Administrative Procedure Act for changes to regulations or guidance in the United States. There are many areas in which the existing BSS and the draft BSS available for comment are known to differ from the current provisions in the regulations of various Federal and State agencies in the United States. Thus, views expressed on the IAEA draft BSS are not considered as comments on any current or possible future regulation activity, but are useful to assist the international community in developing a logical, scientifically based set of requirements. Furthermore, the IAEA BSS can serve as one possible point of reference in the ongoing consideration by various U.S. Agencies of possible regulatory options which may or may not result in a greater degree of alignment with international radiation protection recommendations, such as those in ICRP Publication 103.

ISCORS is a Committee of Federal Agencies intended to foster early resolution and coordination of regulatory issues associated with radiation standards and guidelines. Federal Agencies who are members of ISCORS include the U.S. Environmental Protection Agency, the U.S. Nuclear Regulatory Commission, the U.S. Department of Energy, the U.S. Department of Defense, the U.S. Department of Homeland Security, the U.S. Department of Transportation, the Occupational Safety and Health Administration of the U.S. Department of Labor, and the U.S. Department of Health and Human Services. The Office of Science and Technology Policy, and the Office of Management and Budget are observers to the Committee because of their science policy and regulatory policy responsibilities. Representatives from selected state radiation control organizations and the Defense Nuclear Facilities Safety Board are also observers to the Committee because of their expertise in regulatory implementation and oversight.

Attendees at the meeting are invited to express their views on the draft safety requirement DS379. The views expressed during the meeting will be considered for incorporation, along with comments developed within the Agencies, and will help determine the U.S. Government comments on the draft BSS to be submitted to the IAEA. ISCORS recognizes that a variety of views may be provided, and that viewpoints may differ. ISCORS does not intend to provide specific feedback to those attending the public meeting, and attendees should have no expectation that the views expressed during the meeting will be included in the U.S. Government comments submitted to IAEA. However, ISCORS, and its members agencies, believe that is important to provide an opportunity for the public to express their views on the BSS through this forum. Comments submitted by Member States, including the United States, will be available on the IAEA web site. Note that future domestic rulemakings, if appropriate, will continue to follow established rulemaking procedures, including the opportunity to formally comment on proposed rules.

Dated at Rockville, Maryland, this 28th day of January, 2010.
For the Nuclear Regulatory Commission.
Robert J. Lewis,
Director, Division of Material Safety and State Agreements, Office of Federal and State Materials, and Environmental Management Programs.

[FR Doc. 2010-2547 Filed 2-4-10; 8:45 am]

BILLING CODE 7590-01-P